DEPARTMENT OF LABOR

Occupational Safety and Health Administration

[Docket No. OSHA-2006-0040]

SGS North America, Inc. (Formerly SGS U.S. Testing Company, Inc.)

AGENCY: Occupational Safety and Health Administration (OSHA), Labor.

ACTION: Notice.

SUMMARY: This notice announces the application of SGS North America, Inc., for expansion of its recognition as a Nationally Recognized Testing Laboratory by the addition of one test site and the removal of one test site. This notice presents the Agency's preliminary finding to grant this request. This notice also announces a voluntary modification of the NRTL scope of recognition of SGS North America, Inc., and formally reflects the name change from SGS U.S. Testing Company, Inc. This preliminary finding does not constitute an interim or temporary approval of this application.

DATES: Submit comments, information, and documents in response to this notice, or requests for an extension of time to make a submission, on or before July 11, 2013.

ADDRESSES: Submit comments by any of the following methods:

1. Electronically: Submit comments and attachments electronically at http://www.regulations.gov, which is the Federal eRulemaking Portal. Follow the instructions online for making electronic submissions.

2. Facsimile: If submissions, including attachments, are not longer than 10 pages, commenters may fax them to the OSHA Docket Office at (202) 693-1648.

3. Regular or express mail, hand delivery, or messenger (courier) service: Submit a copy of comments and any attachments to the OSHA Docket Office, Docket No. OSHA-2007-0039, Technical Data Center, Room N-2625, U.S. Department of Labor, 200 Constitution Avenue NW., Washington, DC 20210; telephone: (202) 693-2350 (TDY number: (877) 889-5627). Note that security procedures may result in significant delays in receiving comments and other written materials by regular mail. Contact the OSHA Docket Office for information about security procedures concerning delivery of materials by express delivery, hand delivery, or messenger service. The hours of operation for the OSHA Docket Office are 8:15 a.m.-4:45 p.m., e.t.

4. Instructions: All submissions must include the Agency name and the OSHA docket number (OSHA-2006-0040). OSHA will place all submissions, including any personal information provided, in the public docket without revision, and these submissions will be available online at http://www.regulations.gov.

5. Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office. Contact the OSHA Docket Office for assistance in locating docket submissions.

6. Extension of comment period: Submit requests for an extension of the comment period on or before July 11, 2013 to the Office of Technical Programs and Coordination Activities, NRTL Program, Occupational Safety and Health Administration, U.S. Department of Labor, 200 Constitution Avenue NW., Room N-3655, Washington, DC 20210, or by fax to (202) 693-1644.

FOR FURTHER INFORMATION CONTACT: David W. Johnson, Director, Office of Technical Programs and Coordination Activities, NRTL Program, Occupational Safety and Health Administration, U.S. Department of Labor, 200 Constitution Avenue NW., Room N-3655, Washington, DC 20210, or phone (202) 693-1973.

SUPPLEMENTARY INFORMATION:

I. Notice of Expansion Application

The Occupational Safety and Health Administration (OSHA) is providing notice that SGS North America, Inc. (SGS) is applying for expansion of its current recognition as a Nationally Recognized Testing Laboratory (NRTL). SGS's expansion request covers the addition of one additional test site. SGS's also requests the removal of one test site from its NRTL scope of recognition. SGS informed OSHA of a change in name from SGS U.S. Testing Company, Inc. to SGS North America, Inc. (see Exhibit 1: SGS Application). This notice reflects that change. OSHA's current scope of recognition for SGS is available at http://www.osha.gov/dts/otpca/nrtl/sgs.html.

OSHA recognition of an NRTL signifies that the organization meets the legal requirements specified in Section 1910.7 of Title 29, Code of Federal Regulations (29 CFR 1910.7). Recognition is an acknowledgment that the organization can perform independent safety testing and certification of the specific products covered within its scope of recognition, and is not a delegation or grant of government authority. As a result of recognition, employers may use products approved by the NRTL to meet OSHA standards that require product testing and certification.

The Agency processes applications by an NRTL for initial recognition, or for an expansion or renewal of this recognition, following requirements in Appendix A to 29 CFR 1910.7. This appendix requires that the Agency publish two notices in the Federal Register in processing an application. In the first notice, OSHA announces the application and provides its preliminary finding and, in the second notice, the Agency provides its final decision on the application. These notices set forth modifications of the NRTL's scope of recognition. OSHA maintains an informational Web page for each NRTL that details the NRTL's scope of recognition. These pages are available from the OSHA Web site at http://www.osha.gov/dts/otpca/nrtl/index.html.

Each NRTL's scope of recognition has three elements. The first element is the type of products the NRTL may test, with each type specified by its applicable test standard. The second element identifies the recognized site(s) that has/have the technical capability to perform the product-testing and product-certification activities for test standards within the NRTL's scope of recognition. The third element an NRTL's scope of recognition identifies is the supplemental program(s) that the NRTL may use. These supplemental programs allow the NRTL to rely on other parties to perform activities necessary for product testing and certification.

SGS currently has one site that OSHA recognizes, its headquarters, located at: SGS North America, Inc., 291 Fairfield Avenue, Fairfield, New Jersey 07004. SGS requests OSHA to change the location of their headquarters from the above-mentioned address. SGS's headquarters will now be located at: SGS North America, Inc., 620 Old Peachtree Road, Suwanee, Georgia 30024. A complete list of SGS sites recognized by OSHA is available at http://www.osha.gov/dts/otpca/nrtl/sgs.html.

II. General Background on the Application

SGS submitted an application, dated April 19, 2012 (Exhibit 1: SGS Application), requesting several changes to its NRTL scope of recognition. SGS requests to expand its recognition to include one additional test site located at 620 Old Peachtree Road, Suwanee, Georgia 30024. Additionally, this application requests the change of the address for SGS's headquarters from 291 Fairfield Avenue, Fairfield, New Jersey 07004 to 620 Old Peachtree Road, Suwanee, Georgia 30024. As a consequence of this move, SGS requests the removal of one test site, located at 291 Fairfield Avenue, Fairfield, New Jersey 07004, from its NRTL scope of recognition. SGS also informs OSHA of the change of its name from SGS U.S. Testing Company, Inc., to SGS North America, Inc.

SGS also requests a modification of its scope of recognition under the NRTL Program. This request reduces the number of test standards in SGS's current NRTL scope of recognition by 13 test standards. Subsection II.D of Appendix A to 29 CFR 1910.7 provides that OSHA must inform the public of such a reduction in scope. Accordingly, effective the date of this notice, OSHA is modifying SGS's scope of recognition to eliminate the 13 test standards listed below:

1. ANSI/UL 1—Flexible Metal Conduit

2. UL 62—Flexible Cords and Cables

3. UL 355—Cord Reels

4. UL 498—Attachment Plugs and Receptacles

5. UL 498A—Current Taps and Adapters

6. ANSI/UL 514A—Metallic Outlet Boxes, Electrical

7. UL 544—Electric Medical and Dental Equipment

8. ANSI/UL 632—Electrically Actuated Transmitters

9. UL 817—Cord Sets and Power-Supply Cords

10. UL 1363—Relocatable Power Taps

11. ANSI/UL 1484—Residential Gas Detectors

12. UL 1492—Audio-Video Products and Accessories

13. UL 1581—Electrical Wires, Cables, and Flexible Cords

In connection with these requests, NRTL Program staff performed an on-site review of SGS's Suwanee, Georgia, testing facilities on November 13, 2012. OSHA staff found some non-conformances within the laboratory during the audit. Following the correction of these non-conformances, OSHA staff recommends expansion of SGS's recognition to include the addition of the Suwanee, Georgia, site. As a result, OSHA preliminarily determined that it should expand SGS's scope of recognition to include one additional test site.

III. Preliminary Finding on the Application

SGS submitted an acceptable application for expansion of its recognition as an NRTL. OSHA's review of the application file, and the results of the on-site review, indicate that SGS can meet the requirements prescribed by 29 CFR 1910.7 for recognition to use the facilities listed above. This preliminary finding does not constitute an interim or temporary approval of the application. SGS corrected the discrepancies noted by OSHA during the on-site review, and the on-site review report describes these corrections (Exhibit 2: SGS On-site Review Report).

OSHA welcomes public comment as to whether SGS meets the requirements of 29 CFR 1910.7 for expansion of their recognition as an NRTL. Comments should consist of pertinent written documents and exhibits. Commenters needing more time to comment must submit a request in writing, stating the reasons for the request. OSHA must receive the written request for an extension by the due date for comments. OSHA will limit any extension to 30 days unless the requester justifies a longer period. OSHA may deny a request for an extension if it is not adequately justified. To obtain or review copies of the publicly available information in SGS's application and other pertinent documents (including exhibits), as well as all submitted comments, contact the Docket Office, Room N-2625, Occupational Safety and Health Administration, U.S. Department of Labor, at the above address; these materials also are available online at http://www.regulations.gov under Docket No. OSHA-2006-0040.

The NRTL Program staff will review all comments to the docket submitted in a timely manner and, after addressing the issues raised by these comments, will recommend whether to grant SGS's application for expansion. The Assistant Secretary will make the final decision on granting the application and, in making this decision, may undertake other proceedings prescribed in Appendix A to 29 CFR 1910.7. OSHA will publish a public notice of this final decision in the Federal Register.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on June 20, 2013.
David Michaels,
Assistant Secretary of Labor for Occupational Safety and Health.

[FR Doc. 2013-15229 Filed 6-25-13; 8:45 am]

BILLING CODE 4510-26-P